DEPARTMENT OF TRANSPORTATION

Federal Railroad Administration

[Docket No. FRA-2016-0002-N-25]

Proposed Agency Information Collection Activities; Comment Request

AGENCY: Federal Railroad Administration (FRA), U.S. Department of Transportation.

ACTION: Notice and request for comments.

SUMMARY: Under the Paperwork Reduction Act of 1995 (PRA) and its implementing regulations, FRA seeks approval of proposed information collection activities listed below. Before submitting this information collection request (ICR) to the Office of Management and Budget (OMB) for approval, FRA is soliciting public comment on specific aspects of the activities, which are identified in this notice.

DATES: Comments must be received no later than January 17, 2017.

ADDRESSES: Submit written comments on any or all of the following proposed activities by mail to either: Mr. Robert Brogan, Information Collection Clearance Officer, Office of Railroad Safety, Regulatory Analysis Division, RRS-21, Federal Railroad Administration, 1200 New Jersey Avenue SE., Mail Stop 25, Washington, DC 20590; or Ms. Kim Toone, Information Collection Clearance Officer, Office of Information Technology, RAD-20, Federal Railroad Administration, 1200 New Jersey Avenue SE., Mail Stop 35, Washington, DC 20590. Commenters requesting FRA to acknowledge receipt of their respective comments must include a self-addressed stamped postcard stating, “Comments on OMB Control Number 2130-0010,” and should also include the title of the collection of information. Alternatively, comments may be faxed to (202) 493-6216 or (202) 493-6497, or emailed to Mr. Brogan at Robert.Brogan@dot.gov, or Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Information Collection Clearance Officer, Office of Railroad Safety, Regulatory Analysis Division, RRS-21, Federal Railroad Administration, 1200 New Jersey Avenue SE., Mail Stop 25, Washington, DC 20590 (telephone: (202) 493-6292) or Ms. Kim Toone, Information Collection Clearance Officer, Office of Information Technology, RAD-20, Federal Railroad Administration, 1200 New Jersey Avenue SE., Mail Stop 35, Washington, DC 20590 (telephone: (202) 493-6132). (These telephone numbers are not toll free.)

SUPPLEMENTARY INFORMATION: The PRA, 44 U.S.C. 3501-3520, and its implementing regulations, 5 CFR part 1320, require Federal agencies to provide 60-days' notice to the public to allow comment on information collection activities before seeking OMB approval to implement them. See 44 U.S.C. 3506(c)(2)(A); 5 CFR 1320.8(d)(1), 1320.10(e)(1), 1320.12(a). Specifically, FRA invites interested respondents to comment on the following summary of proposed information collection activities regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public by automated, electronic, mechanical, or other technological collection techniques and other forms of information technology (e.g., permitting electronic submission of responses). See 44 U.S.C. 3506(c)(2)(A)(i)-(iv); 5 CFR 1320.8(d)(1)(i)-(iv).

FRA believes that soliciting public comment will promote its efforts to reduce the administrative and paperwork burdens associated with the collection of information that Federal regulations mandate. In summary, FRA reasons that comments received will advance three objectives: (1) Reduce reporting burdens; (2) ensure that it organizes information collection requirements in a “user-friendly” format to improve the use of such information; and (3) accurately assess the resources expended to retrieve and produce information requested. See 44 U.S.C. 3501.

Below is a brief summary of currently approved information collection activities that FRA will submit for clearance by OMB as required under the PRA:

Title: Track Safety Standards.

OMB Control Number: 2130-0010.

Abstract: Part 213 prescribes minimum safety requirements for railroad track that is part of the general railroad system of transportation. While the requirements prescribed in this part generally apply to specific track conditions existing in isolation, a combination of track conditions, none of which individually amounts to a deviation from the requirements in this part, may require remedial action to provide safe operations over that track. Qualified persons inspect track and take action to allow safe passage of trains and ensure compliance with prescribed Track Safety Standards. In March 2013, FRA amended the Track Safety Standards and Passenger Equipment Safety Standards applicable to high-speed and high cant deficiency train operations to promote the safe interaction of rail vehicles with the tracks over which they operate. The final rule revised limits for vehicle response to track perturbations and added new limits as well. The rule accounts for a range of vehicle types that are currently used and may likely be used in future high-speed or high cant deficiency rail operations, or both. The rule is based on the results of simulation studies designed to identify track geometry irregularities associated with unsafe wheel/rail forces and accelerations, thorough reviews of vehicle qualification and revenue service test data, and consideration of international practices. The information collection associated with the Track Safety Standards is used by FRA to ensure and enhance rail safety by monitoring complete compliance with all regulatory requirements.

Form Number(s): N/A.

Affected Public: Businesses.

Respondent Universe: 728 railroads.

Frequency of Submission: On occasion.

Affected Public: Businesses.

Reporting Burden:

CFR section | Respondent universe (railroads) | Total annual responses | Average time per response | Total annual burden hours
213.14—Excepted track—Identification—Notification to FRA—Removal of Track | 236 | 20 orders | 15 minutes | 5
Segment From Excepted Statues | 236 | 15 notices | 10 minutes | 3
213.5—Responsibility of for Compliance—Track Owners—Assignment to Another Person—Notice to FRA | 728 | 10 notices | 8 hours | 80
213.7—Designation of qualified persons to supervise certain renewals and inspect track | 728 | 1,500 names | 10 minutes | 250
—Individuals Designated under paragraphs (a) or (b) of this section who inspect CWR and have completed CWR Training Course | 37 | 80,000 trained Employees | 8 hours | 640,000
—Employees authorized by Track Owner to prescribe CWR Remedial Actions | 37 | 80,000 auth. + 80,000 exams | 10 min. + 60 min | 93,333
—Designations (Partially Qualified under Paragraph c) | 37 | 250 names | 10 min. | 2
213.17—Waiver: Petitions | 728 | 6 petitions | 24 hours | 144
213.57—Curves; elevations and speed limits—Requests for higher curving speeds | 728 | 2 requests | 40 hours | 80
—Implementation Notification to FRA | 728 | 2 notifications | 8 hours | 16
—Written Consent of Track Owner to RR provide service over track w/same equip | 728 | 2 consents | 45 minutes | 2
213.110—Gage restraint measurement systems—Implementing GRMS—Notice to FRA and Technical Report | 728 | 5 notices + 1 tech. report | 45 minutes + hours | 8
—GRMS Output Reports | 728 | 50 reports | 5 minutes | 4
—GRMS Exception Reports | 728 | 50 reports | 5 minutes | 4
—Procedures For Maintaining GRMS Data | 728 | 4 procedures | 2 hours | 8
—GRMS Training to Qualified Employees | 728 | 2 tr. programs + 5 sessions | 16 hours/session or program | 112
—GRMS Inspections—Two Most Recent Records | 728 | 50 records | 2 hours | 100
213.118—Continuous weld rail (CWR); plan review and approval—Track Owner Plans to FRA | 279 | 279 revised plans | 4 hours | 1,116
—Notice to FRA & to Affected Employees of Plan's Effective Date | 279 | 279 notices + 80,000 notices | 15 minutes + 2 minutes | 2,737
—FRA Required Revisions to CWR Plans; Further FRA Amendments to CWR Plans | 279 | 20 revisions | 2 hours | 40
—Annual Retraining of CWR Employees | 279 | 20 plans | 1 hour | 20
213.119—Continuous weld rail (CWR); plan contents—Annual Retraining of CWR Employees | 37 | 80,000 worker | 30 minutes | 40,000
—Records of CWR Installations and CWR Maintenance | 279 | 2,000 records | 10 minutes | 333
—Records of Rail Joint Inspections | 279 | 360,000 rcds | 2 minutes | 12,000
—Records of CWR Periodic Inspections | 279 | 480,000 rcds | 1 minute | 8,000
—CWR Procedures Manual | 279 | 279 Manuals | 10 minutes | 47
213.233—Track Inspections By Person/Vehicle—Records | 728 | 12,500 notations | 1 minute | 208
213.237—Inspection of rail—RR request to Change Designation of a Rail Inspection Segment or establish a New Segment | 10 | 50 requests | 15 minutes | 13
—After FRA approval, RR Notice to FRA and RR Employees of Effective Date | 10 | 50 notices + 120 notices | 15 minutes + 15 minutes | 43
—RR/Track Owner Notice to FRA that Service Failure Rate Target Identified in 213.237(a) is not Achieved | 10 | 12 notices | 15 minutes | 3
—RR/Track Owner Letter of Explanation Why Service Failure Target Rate has not been Achieved and Provision of Remedial Action Plan to FRA | 10 | 12 letters + 12 plans | 15 minutes | 6
213.241—Track and Rail Inspection Records | 728 | 1,542,089 records | Varies with Inspection Type | 1, 672,941
213.303—Responsibility for compliance—High Speed Track: Notice to FRA of Assignment of Responsibility | 2 | 1 notice | 8 hours | 8
213.305—Designation of qualified individuals | 2 | 20 designation | 10 minutes | 3
213.317—Waiver Petitions | 2 | 1 petition | 80 hours | 80
213.329—Curves; elevation, and speed limitations—Submission of Testing Results Specified in 213.329(d) to FRA for Each Type of Vehicle RR/Track Owner requests Approval | 2 | 2 documents | 80 hours | 160
—Notification to FRA by RR/Track Owner of Implementation of Higher Curving Speeds at least 30 calendar days before Proposed Implementation | 2 | 3 notifications | 40 hours | 120
—Written Consent of Track Owner to Another RR that provides Service w/Same Vehicle Type | 2 | 3 written consents | 45 minutes | 2
213.333—RR Request to FRA concerning Track Geometry Measurement taken from a distance different from that Specified under 213.333(b)(1) | 728 | 1 request | 8 hours | 8
—RR TGMS Output Reports | 10 | 18 reports | 20 hours | 360
—RR Copy of plot and exception report by qualifying TGMS performing inspection | 10 | 13 reports | 20 hours | 260
—Notification to Track Personnel when Onboard Accelerometers indicate possible track-related problems | 10 | 10 notices | 40 hours | 400
213.333—RR Request to FRA for Alternative Location of Devices Measuring Lateral Accelerations Mounted on a Truck Frame | 10 | 10 requests | 40 hours | 400
—RR Track Owner Monitoring Data Calendar Year Report to FRA | 10 | 4 data reports | 8 hours | 32
213.341—Initial inspection of new rail and welds: Mill Inspection—Report | 2 | 2 reports | 16 hours | 32
—Welding Plant Inspection—Report | 2 | 2 reports | 16 hours | 32
—Inspection of Field Welds—Records | 2 | 125 records | 20 minutes | 42
213.343—Continuous welded rail (CWR)—History—Records | 2 | 150 records | 10 minutes | 25
213.345—Vehicle Qualification Testing—Qualification Program for All Vehicle Types intended to Operate at Class 6 Speeds or Above or at Any Curving Speed more than 5 Inches of Cant Deficiency | 10 | 10 programs | 120 hours | 1,200
—Qualification Program for All Vehicle Types intended to Operate at Class 7 Speeds or Above or at Any Curving Speed more than 6 Inches of Cant Deficiency | 10 | 10 programs | 80 hours | 800
—Track Owner Consent for Another Railroad that Provides Service with Same Vehicle Type Over Its Track to Submit Documents to FRA | 728 | 1 written consent | 8 hours | 8
213.347—Automotive or railroad crossings at grade—Protection Plans | 1 | 2 plans | 8 hours | 16
213.369—Inspection records | 2 | 500 records | 1 minute | 8
—Inspection Records of Defects and Remedial Actions | 2 | 50 records | 5 minutes | 4

Total Estimated Annual Responses: 2,800,634.

Total Estimated Annual Burden: 2,475,698 hours.

Type of Request: Extension of a Currently Approved Collection.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Issued in Washington, DC, on November 7, 2016.
Patrick T. Warren,
Acting Executive Director.

[FR Doc. 2016-27521 Filed 11-15-16; 8:45 am]

BILLING CODE 4910-06-P